DEPARTMENT OF THE INTERIOR

Fish and Wildlife Service

Information Collection Sent to the Office of Management and Budget (OMB) for Approval; OMB Control Number 1018-0130; Import/Export of Wildlife and Wildlife Parts and Products and Plant Rescue, 50 CFR 12, 13, and 23

AGENCY: Fish and Wildlife Service, Interior.

ACTION: Notice; Request for Comments.

SUMMARY: We (Fish and Wildlife Service) have sent an Information Collection Request (ICR) to OMB for review and approval. The ICR, which is summarized below, describes the nature of the collection and the estimated burden and cost. This ICR is scheduled to expire on August 31, 2006. We may not conduct or sponsor and a person is not required to respond to a collection of information unless it displays a currently valid OMB control number. However, under OMB regulations, we may continue to conduct or sponsor this information collection while it is pending at OMB.

DATES: You must submit comments on or before August 23, 2006.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey at one of the addresses above or by telephone at (703) 358-2482.

SUPPLEMENTARY INFORMATION: OMB Control Number: 1018-0130.

Title: Import/Export of Wildlife and Wildlife Parts and Products and Plant Rescue, 50 CFR parts 12, 13, and 23.

Service Form Number(s): 3-200-61.

Type of Request: Revision of a currently approved collection.

Affected Public: State and tribal governments; botanical gardens, arboreta, zoological parks and research institutions.

Respondent's Obligation: Required to obtain or retain benefits.

Frequency of Collection: On occasion.

Activity | Number of respondents | Number of responses | Estimated completion time (hrs) | Total annual burden hrs
Approval of a CITES Export Program (American ginseng, furbearers, American alligator) | 2 | 2 | 12 | 24
Reports—American Ginseng (FWS Form 3-200-61) | 25 | 25 | ¹ 43.5 | ¹ 1,087.5
Reports—Furbearer | 52 | 52 | 1 | 52
Reports—American Alligator | 10 | 10 | 1 | 10
Participation in the Plant Rescue Center Program | 3 | 3 | 1 | 3
Plant Rescue Center Status Reports | 69 | 140 | 0.5 | 70
Totals | 161 | 232 |  | 1,246.5
¹Average.

Estimated Total Annual Nonhour Burden Cost to Public: $3,000 for printing and travel costs associated with submission of FWS Form 3-200-61.

Abstract: This information collection is associated with regulations implementing the Convention on International Trade in Endangered Species of Wild Fauna and Flora (CITES). CITES regulates international trade in listed species through a system of permits and certificates. Before issuing a CITES Appendix II export permit, the Service must find that: (1) The specimens to be exported were legally acquired and (2) the export will not be detrimental to the survival of the species in the wild. We must also monitor exports to ensure that the level of trade is sustainable.

We have set up programs to streamline the process for making the findings for export of certain native species listed in CITES Appendix II. Working with State and tribal governments, we have established export programs for American alligator, American ginseng, and certain native furbearers. For States and tribes that request export approval for one or more of these species, we collect information from the State and tribal governments on: (1) The conservation management of the relevant CITES-listed species in their territory and (2) their laws regulating the harvest of these species. This information allows us to make findings on a State or tribal basis, rather than requiring individual permit applicants to provide the information on a permit-by-permit basis.

After we approve a State or tribal export program, we collect information from the State or tribal government in the form of annual reports. These reports request information on annual harvest levels and any changes to the State or tribal regulatory procedures over the past year. States and tribes may refer to information that they provided in previous years if there has been no change. The annual reports provide information that enables us to make findings on an annual or multi-year basis. Regular reporting from States and tribes helps us ensure that our findings remain valid. We use FWS Form 3-200-61 (American Ginseng Export Program) to collect information on ginseng programs. We collect information on the other export programs by letter or e-mail.

This information collection also pertains to plant rescue. Live plant specimens traded in violation of CITES are subject to seizure, and CITES requires that seized live plant material either be returned to the country of export or placed in a qualified rescue center in the country in which the seizure occurred. In the United States, we have a Plant Rescue Center program consisting of a network of botanical gardens, arboreta, zoological parks, and research institutions that have agreed to care for seized plant material. We collect information to determine if an institution is qualified to participate in the Plant Rescue Center program, as well as followup information from Plant Rescue Center participants confirming receipt of shipments and the condition of plants upon receipt. We collect this information via a letter or e-mail.

Comments: On March 10, 2006, we published a notice in the Federal Register (71 FR 12393) soliciting public comment for a period of 60 days on the information collection and recordkeeping requirements described here. The comment period ended May 9, 2006. We received comments from one individual and a State Department of Natural Resources.

The individual commenter did not address the necessity, clarity, or accuracy of the information collection, but instead provided a general statement of opposition to the information collection and the import or export of wildlife and plants. We did not make any changes to our information collection as a result of that comment.

A number of the comments submitted by the State Department of Natural Resources address the necessity, clarity, or accuracy of the information collection and are addressed below. We revised FWS Form 3-200-61 and the supporting statement for our request to OMB based on these comments.

The commenter stated that ginseng is not rare and therefore should be removed from Appendix II. While there is a process for proposing delisting, the issue of whether or not ginseng should be listed in the CITES Appendices is outside the scope of this information collection; therefore, we will not address it here.

In the supporting statement for FWS Form 3-200-61, we note that many of the individuals and companies digging and dealing in American ginseng operate in several States. We also request information on the movement of ginseng within the United States to assist us in keeping track of the legal trade. The commenter asserted that the vast majority of ginseng harvesters dig in the State where they live or vacation, but then noted that several dealers buy certified ginseng from dealers from other States. We continue to believe that many individuals involved in harvesting and selling American ginseng operate in multiple States. The commenter went on to note that she keeps records of every shipment of American ginseng bought and sold by dealers in her State from other States, but had never been asked to provide this information to the Fish and Wildlife Service. FWS Form 3-200-61 asks how States and tribes with approved American ginseng export programs handle ginseng entering from another State or tribe and if individuals and companies dealing in ginseng have to be licensed or registered.

The commenter questioned the utility of collecting harvest data from the States as an indicator of the status of the species in the wild, and further recommended that such information not be collected by county, since she asserted that “no one in FWS has ever used the county level data” and such information may be incorrectly reported by ginseng diggers and dealers. We agree with the commenter that harvest levels of ginseng are not completely correlated to abundance of the species in the wild, but are affected by several other factors. However, over time a consistent change in harvest levels, especially a decline, serves as an indicator of a change in the species' abundance. Such changes signal to us the need to engage in more intensive consultations with the States and relevant experts to determine what is actually happening relative to the status of ginseng.

In discussions with State ginseng coordinators and stakeholders (especially diggers, growers, and dealers), it is universally acknowledged that more effort is needed to assess the actual status of ginseng in the wild. However, because American ginseng has an extensive range, a meaningful status assessment would require significant funding and other resources. Although more information has been forthcoming on the status of ginseng, impacts of harvest, best harvest practices, and other aspects of ginseng biology, harvest, and trade, we still find that much of our evaluation of the sustainability of ginseng harvest is derived indirectly rather than through direct study of wild populations of the species. Therefore, until a more complete assessment and monitoring program can be developed, we still need to collect information on harvest levels of ginseng for making our nondetriment findings. The collection of such information is also useful in determining if there are significant discrepancies in what States are certifying as legally acquired and actual exports. Significant differences between amounts of ginseng certified and actual exports would serve to indicate fraud or other illegal activities, potentially in violation of both Federal and State laws, in addition to noncompliance with CITES.

The commenter is mistaken in her belief that the county-level harvest data are not used. In fact, we stated in our 2003-2004 nondetriment finding for ginseng that there was a strong correlation between harvest in certain counties and their proximity to or inclusion of U.S. Forest Service (USFS) lands. We used this information to note discrepancies between levels of harvest authorized by USFS and actual reported amounts, which we believe were potential indicators of illegal harvest on Federal lands. We provided this information to USFS to consider in their management of ginseng on their lands. More recently, in work done by the U.S. Geological Survey-Biological Resource Discipline (BRD) to assist us in evaluating the status of ginseng and the impacts of harvest, county harvest data were used to study ginseng abundance and its relationship to harvest levels as well as the number of ginseng dealers in a given area, particularly in and around Federal lands.

In the supporting statement for FWS Form 3-200-61, we state that we use the information provided on FWS Form 3-200-61 to make nondetriment and legal acquisition findings as required under CITES. The commenter contended that the only person who can determine if the root were legally acquired is the person who dug the root, and it is impossible for dealers or State certifiers to verify legal acquisition. The certification that wild American ginseng was legally acquired is based on the presentation of a digger or dealer license, if required, and State or U.S. Forest Service harvest permits or landowner permission slips for all wild ginseng presented for certification. If a dealer or State certifier has reason to believe that the ginseng presented for certification were not legally acquired or that the digger or dealer violated the requirements for a license, that individual should not certify the ginseng roots in question. While we use the information from FWS Form 3-200-61 in making nondetriment and legal acquisition findings, this is not the only information we use. In making the nondetriment findings, we also use information from peer-reviewed literature as well as information from federally funded and academic research projects. For the legal acquisition findings, we rely on the fact that States have legislation in place for managing ginseng populations as well as the capacity to enforce that legislation.

With regard to duplication in the information collection, the commenter noted that the States are asked to resubmit information that has not changed from year to year, and she recommended that we require the States only to submit information on those items for which the information has changed from previous years. We agree with this suggestion and have included a clarification statement on FWS Form 3-200-61 noting that information that has not changed from previous years does not need to be provided again. The commenter also stated that the requirement that States track unsold or unexported ginseng was burdensome and did not appear useful. FWS Form 3-200-61 does not require that States keep this information, but rather asks if States track this information as part of their program.

The commenter expressed concern that the information collection would have a significant impact on small businesses or other small entities. The commenter stated that the only way a State agency could obtain the information requested would be to obtain that information from ginseng dealers, which are small businesses. It was the commenter's opinion that the requested information would require a minimum of 725 hours annually for the approximately 15 dealers within the commenter's State. Our programmatic findings reduce the information collection burden on individual businesses and greatly facilitate processing of permits. Through close cooperation with States within the range of American ginseng, we have developed the protocol for making programmatic findings and have established programs with 25 States. This process removes the burden on the individual exporter to provide all of the required information, thus significantly reducing the information collection burden on individual businesses. We disagree with the statement that this information collection would amount to a time burden in excess of 725 hours for approximately 1,800 ginseng purchases by the 15 or so dealers in the commenter's State. Of the 725 hours identified, we believe that only 305 of those hours actually relate to issues of this information collection. In our opinion, the other 420 hours are for standard business practices and recordkeeping, such as for tax purposes, that the dealers would need to conduct whether or not we carried out this information collection. With an estimated 15 dealers, the annual time burden amounts to about 20 hours each, or 10 minutes per purchase.

The commenter believed that we had underestimated the hour burden of the collection of information, and she provided a revised hour burden estimate based on her experience as a State American ginseng program coordinator. We do not agree with all of the elements included in the commenter's hour burden estimate, but we do agree that we previously underestimated the hour burden. We also believe that the hour burden on respondents is likely to vary from program to program. We have revised the information collection for FWS Form 3-200-61 to show an estimated range of 2 to 85 hours (an average of 43.5 hours) for the annual hour burden. We believe that our estimate of the average hourly wage of a person completing the form, approximately $20 per hour, is reasonable and we have revised the average total dollar value of annual burden hours as described above. The commenter included an estimated hour burden for costs to her agency resulting from program requirements imposed by the State. We do not believe that it is appropriate to include that estimate in the supporting statement for FWS Form 3-200-61 since it is not a requirement placed on the State by the Service.

The commenter believed that our estimate of the total annual nonhour cost burden to respondents was incorrect. Although we do not agree that law enforcement activities associated with managing American ginseng are part of the annual nonhour cost burden, we have revised the supporting statement for FWS Form 3-200-61 to include $3,000 for printing and travel costs. We believe this is a reasonable estimate of the total annual nonhour cost burden to respondents.

The commenter also included some general comments related to this information collection. The commenter remarked on the use of the phrase “States and tribes,” noting that in her State ginseng harvested on tribal lands is incorporated into the State report. Although there are currently no tribes with approved American ginseng export programs, we have included the reference to tribes in this information collection in the event that a tribe seeks and obtains approval of a program separately from the State in which it is located, particularly as some States no longer manage or regulate resources on tribal lands. We have approved tribal programs for export of other CITES Appendix-II species (e.g., bobcat [Lynx rufus]).

The commenter noted the difficulty in compiling the information and completing this information collection by May 1 of each year. On April 19, 2006, we published a proposed rule in the Federal Register (71 FR 20168) to revise the regulations that implement CITES. That proposed rule contains information collections related to those described here. In the proposed rule, we change the annual report due date from May 31 to May 1. The harvest seasons for all of the States with currently approved American ginseng export programs end by December 31 at the latest. We believe that the States should reasonably be able to complete this information collection over a 4-month time period. This proposed change will ensure that we receive information in time for us to make required CITES findings before the beginning of the next harvest season.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents. Comments submitted in response to this notice are a matter of public record.

Dated: June 27, 2006.
Hope Grey,
Information Collection Clearance Officer, Fish and Wildlife Service.

[FR Doc. E6-11645 Filed 7-21-06; 8:45 am]

BILLING CODE 4310-55-P